DEPARTMENT OF TRANSPORTATION

Federal Highway Administration

U.S. 285 Notice of Intent

AGENCY: Federal Highway Administration.

ACTION: Notice of intent and public scoping meeting.

SUMMARY: The FHWA is issuing this notice to advise the public that an environmental impact statement will be prepared for proposed transportation improvements to U.S. 285 from Foxton Road to Bailey in Jefferson and Park Counties, Colorado.

FOR FURTHER INFORMATION CONTACT: Mr. Scott Sands, FHWA Colorado Division, 555 Zang Street, Room 250, Denver, CO 80228, Telephone (303) 969-6730, extension 362.

SUPPLEMENTARY INFORMATION: The FHWA, in cooperation with the Colorado Department of Transportation (CDOT) will prepare an Environmental Impact Statement in accordance with the National Environmental Policy Act (NEPA) for transportation improvements on U.S. 285 from Foxton Road in Conifer to just south of Bailey, Colorado. The EIS will evaluate the No-Action and Build alternative(s) and determine the estimated costs and potential impacts of each. CDOT will be the local lead agency for the EIS. The project is approximately 15 miles in length. Alternatives that may be evaluated include the No-Action Alternative and various 2, 3 and 4 lane alternatives. A public scoping meeting has been scheduled for July 30, 2002 at the Elk Creek Fire Protection District at 11993 Blackfoot Road in Conifer, CO. Scoping meetings are also planned with the U.S. Army Corps of Engineers, U.S. Forest Service, U.S. Environmental Protection Agency, U.S. Fish and Wildlife Service, Colorado Division of Wildlife and various local agencies. This effort will build on the results of the U.S. 285 Feasibility Study which was completed in March of 2002.

Written comments on project scope should be sent to: Mr. Kim Patel, Project Manager, CDOT Region One, 18500 East Colfax Avenue, Aurora, CO 80111, Telephone: (303) 365-7373.

FHWA, CDOT and other local agencies invite interested individuals, organizations, and federal, state and local agencies to participate in refining the alternatives to be evaluated in the EIS and identifying any significant social, economic or environmental issues related to the alternatives. Scoping comments may be made at the scheduled scoping meeting or in writing. Scoping comments received during the development of the U.S. 285 Feasibility Study will be incorporated into the overall scoping comments for the EIS. The public will receive notices on locations and times of future public meetings through newspaper advertisements and individual correspondence. If you wish to be placed on the project mailing list, please contact Mr. Kim Patel at the address noted above.

All significant social, economic and environmental impacts of the alternatives carried forward for complete EIS analysis will be evaluated. Depending on the alternatives under study, environmental and social impacts to be evaluated will include safety and mobility impacts, impacts on cultural resources, noise impacts, natural resources, air quality, threatened and endangered species, wildlife resources, habitat connectivity, and parks and recreation resources.

In accordance with FHWA policy, the Draft EIS will be prepared with required engineering design studies necessary to complete the document. After its publication, the Draft EIS will be available for public and agency review and comments and a public hearing will be held. A Final EIS will hen be prepared, followed by a Record of Decision which will officially select a preferred alternative. Prior to the official selection of a preferred alternative in the Record of Decision, notification of the preference will be made in either the Draft or Final EIS.

The No-Action Alternative is expected to include minor safety improvements, (e.g., intersection improvements, shoulder widening, or climbing lanes) resurfacing, bridge repair, maintenance, stream or other environmental improvements, and the construction of a grade separated intersection at Wandcrest Drive. Through the course of the EIS, other independent utility projects may be identified if they are found to not conflict with the outcome of the EIS.

Issued on: June 13, 2002.
William C. Jones,
Division Administrator.

[FR Doc. 02-17504 Filed 7-11-02; 8:45 am]

BILLING CODE 4410-22-M